DEPARTMENT OF THE INTERIOR

Bureau of Land Management

[LLNV912000 L13400000.PQ0000 LXSS0006F0000; 12-08807; MO# 4500092196; TAS: 14X1109]

Notice of Public Meetings: Mojave-Southern Great Basin Resource Advisory Council, Nevada

AGENCY: Bureau of Land Management, Interior.

ACTION: Notice of public meetings.

SUMMARY: In accordance with the Federal Land Policy and Management Act (FLPMA) and the Federal Advisory Committee Act of 1972 (FACA), the U.S. Department of the Interior, Bureau of Land Management (BLM) Mojave-Southern Great Basin Resource Advisory Council (RAC), will hold three meetings in Nevada in fiscal year 2016. The meetings are open to the public.

DATES: May 19, and Sept. 22, 2016. Meeting times will be published in local and regional media sources at least 14 days before each meeting. All meetings will include a public comment period.

ADDRESSES: The May 19 meeting will be held at the Toll Brothers Clubhouse, 3190 Mantua Village, Henderson, Nevada; Aug. 9-10, Caliente Railroad Depot, 100 Depot Ave., Caliente, Nevada. The Sept. 22 meeting will be held at the Nye County Commission Chambers, 2100 E. Walt Williams Dr., Pahrump, Nevada.

FOR FURTHER INFORMATION CONTACT: Chris Hanefeld, Public Affairs Specialist, Ely District Office, 702 N. Industrial Way, Ely, NV 89301, telephone: (775) 289-1842, email: chanefel@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The 15-member Council advises the Secretary of the Interior, through the BLM, on a variety of planning and management issues associated with public land management in Nevada. Topics for discussion at each meeting will include, but are not limited to:

• May 19 (Henderson)—Sloan Canyon National Conservation Area, and Southern Nevada Public Land Management Act.

• Aug. 9-10 (Caliente)—Ash Springs Recreation Site, Basin and Range National Monument, and Greater Sage-Grouse.

• September 22 (Pahrump)—Target Shooting on Public Lands, and Wild Horses.

Managers' reports of district office activities will be given at each meeting. The Council may raise other topics at the meetings.

Final agendas will be posted on-line at the BLM Mojave-Southern Great Basin RAC Web site at http://www.blm.gov/nv/st/en/res/resource_advisory.html and will be published in local and regional media sources at least 14 days before each meeting. Individuals who need special assistance such as sign language interpretation or other reasonable accommodations, or who wish to receive a copy of each agenda, may contact Chris Hanefeld no later than 10 days prior to each meeting.

Rudy Evenson,
Deputy Chief, Office of Communications.

[FR Doc. 2016-09788 Filed 4-26-16; 8:45 am]

BILLING CODE 4310-HC-P